INTERNATIONAL TRADE COMMISSION

[Investigation No. 337-TA-1377]

Certain Products Containing Tirzepatide and Products Purporting To Contain Tirzepatide; Notice of a Commission Determination Not To Review an Initial Determination Granting a Motion To Amend the Complaint and Notice of Investigation

AGENCY: International Trade Commission.

ACTION: Notice.

SUMMARY: Notice is hereby given that the U.S. International Trade Commission (“Commission”) has determined not to review an initial determination (“ID”) (Order No. 16) of the presiding administrative law judge (“ALJ”) granting a motion to amend the complaint and notice of investigation to name an additional respondent.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on November 27, 2023, based upon a complaint filed on behalf of Eli Lilly and Company (“Eli Lilly”) of Indianapolis, Indiana. 88 FR 82914-15 (Nov. 27, 2023). The complaint, as supplemented, alleges violations of section 337 based upon the importation into the United States and the sale of certain products containing tirzepatide or purporting to contain tirzepatide by reason of false designation of source and false and misleading advertising, the threat or effect of which is to destroy or substantially injure an industry in the United States, and based upon the importation into the United States, the sale for importation, and the sale within the United States after importation of certain products containing tirzepatide or purporting to contain tirzepatide by reason of infringement of U.S. Trademark No. 6,809,369. Id. The complaint also alleges that a domestic industry exists pursuant to subsection (a)(2) of section 337. Id.

The Commission's notice of investigation named as respondents Arctic Peptides LLC of Akeny, Iowa; Audrey Beauty Co. of Hong Kong, China; Biolabshop Limited of Lancaster, United Kingdom; Mew Mews Company Limited of Hong Kong, China; Strate Labs LLC of Spring, Texas; Steroide Kaufen of Bialystok, Poland; Super Human Store of Barcelona, Spain; Supopeptide of Cedar Grove, New Jersey; Triggered Supplements LLC of Clearwater, Florida; Unewlife of Cedar Grove, New Jersey; and Xiamen Austronext Trading Co., Ltd. of Fujian, China. Id. at 82915. The Office of Unfair Import Investigations (“OUII”) is also named as a party in this investigation. Id.

Respondents Unewlife, Supopeptide, and Steroide Kaufen were terminated pursuant to withdrawal of the complaint. See Order No. 8 (Mar. 7, 2024), unreviewed by Comm'n Notice (Mar. 21, 2024). Respondents Arctic Peptides LLC; Audrey Beauty Co., Ltd.; Biolabshop Limited; Mew Mews Co. Ltd.; Strate Labs LLC; Super Human Store; Triggered Supplements LLC (d/b/a The Triggered Brand); and Xiamen Austronext Trading Co., Ltd. (d/b/a AustroPeptide) have been found in default. See Order No. 13 (Apr. 22, 2024), unreviewed by Comm'n Notice (May 15, 2024).

On May 21, 2024, the complaint and notice of investigation were amended to add two respondents: Fibonacci Sequence LLC d/b/a GenX Peptides of Houston, Texas; and Paradigm Peptides of Michigan City, Indiana. Order No. 12 (Apr. 22, 2024), unreviewed by Comm'n Notice (May 21, 2024), 89 FR 46159-60 (May 28, 2024).

On May 8, 2024, Eli Lilly filed a motion to amend the complaint and notice of investigation to name an additional respondent, Total Compounding Pharmaceuticals of Australia. On that same date, Eli Lilly filed a motion for leave to serve Total Compounding Pharmaceuticals by alternative service via email, which was granted pursuant to Order No. 14 (May 13, 2024). On May 15, 2024, OUII filed a response to the motion to amend, which did not oppose the amendment.

On May 17, 2024, the ALJ issued the subject ID granting the motion to amend the complaint and notice of investigation to name Total Compounding Pharmaceuticals as a respondent. The ALJ found that Eli Lilly had complied with the requirements of Commission Rule 210.14(b) (19 CFR 210.14(b)) for amendment of the complaint and notice of investigation. See ID at 3-6.

No petitions for review of the subject ID were filed.

The Commission has determined not to review the subject ID. The complaint and notice of investigation are hereby amended to add respondent Total Compounding Pharmaceuticals.

The Commission vote for this determination took place on June 13, 2024.

The authority for the Commission's determination is contained in section 337 of the Tariff Act of 1930, as amended (19 U.S.C. 1337), and in Part 210 of the Commission's Rules of Practice and Procedure (19 CFR part 210).

By order of the Commission.
Issued: June 13, 2024.
Lisa Barton,
Secretary to the Commission.

[FR Doc. 2024-13370 Filed 6-17-24; 8:45 am]

BILLING CODE 7020-02-P